DEPARTMENT OF LABOR

Employment and Training Administration

Comment Request for Information Collection for Self-Employment Assistance (SEA) for UI Claimants, Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data about SEA activities, expiring 09/30/2012.

DATES: Written comments must be submitted to the office listed in the ADDRESSES section below on or before August 21, 2012.

ADDRESSES: Submit written comments to Scott Gibbons, Office of Unemployment Insurance, Employment and Training Administration, U.S. Department of Labor, 200 Constitution Avenue NW., Washington, DC 20210. Telephone number: 202-693-3008 (this is not a toll-free number). Individuals with hearing or speech impairments may access the telephone number above via TTY by calling the toll-free Federal Information Relay Service at 1-877-889-5627 (TTY/TDD). Email: gibbons.scott@dol.gov. A copy of the proposed information collection request (ICR) can be obtained by contacting Mr. Gibbons.

SUPPLEMENTARY INFORMATION:

I. Background

Public Law 112-96, the Middle Class Tax Relief and Job Creation Act of 2012, provides states with the opportunity to allow Unemployment Insurance (UI) claimants in the Federal Emergency Unemployment Compensation program of 2008 (EUC08) to participate in a reemployment program that helps them start their own businesses known as SEA. Currently, a handful of states use this reemployment program, for which a minor amount of information (claimants entering the program, and weeks and amounts of dollars paid) is collected under OMB Control Number 1205-0010.

In accordance with statutory requirements and to assist states in establishing, improving, and administering SEA programs (section 2183(a)), the Employment and Training Administration (ETA) uses the ETA 9161 to collect information specific to the SEA program.

Section 2183(b)(1) of the 2012 Act directs the Secretary of Labor to establish reporting requirements for States that have established SEA programs, which shall include reporting on—(A) The total number of individuals who received unemployment compensation and—(i) Were referred to a SEA program; (ii) participated in such program; and (iii) received an allowance under such program; (B) the total amount of allowances provided to individuals participating in a SEA program; (C) the total income (as determined by survey or other appropriate method) for businesses that have been established by individuals participating in a SEA program, as well as the total number of individuals employed through such businesses; and (D) any additional information, as determined appropriate by the Secretary. ETA currently uses Form ETA-9161 as an electronic reporting mechanism to collect this required information. In addition to Public Law 112-96, collection of data is used for oversight of the program as authorized under Section 303(a)(6) of the Social Security Act.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Title: Self-Employment Assistance for UI Claimants.

OMB Number: 1205-0490.

Affected Public: State Workforce Agencies.

Form(s): ETA 9161.

Total Annual Respondents: 26.

Annual Frequency: Quarterly for three different reports.

Total Annual Responses: 26 respondents × 4 quarterly reports × 3 programs = 312 responses.

Average Time per Response: 2 hours per report.

Estimated Total Annual Burden Hours: 26 respondents × 4 quarterly reports × 3 programs × 2 hours per report = 624 hours.

Total Annual Burden Cost for Respondents: There are no other costs associated with this collection of information.

Comments submitted in response to this comment request will be summarized and/or included in the request for OMB approval of the ICR; they will also become a matter of public record.

Dated: Signed in Washington, DC, this 15th day of June, 2012.
Jane Oates,
Assistant Secretary for Employment and Training, Labor.

[FR Doc. 2012-15216 Filed 6-21-12; 8:45 am]

BILLING CODE 4510-FW-P